DEPARTMENT OF DEFENSE

Department of the Army, Corps of Engineers

Transfers of Administrative Jurisdiction, Camp Frank D. Merrill and Lake Lanier, Georgia

AGENCY: U.S. Army Corps of Engineers, DoD.

ACTION: Notice.

SUMMARY: National Defense Authorization Act for Fiscal Year 2015, ordered transfers of two properties: Camp Frank D. Merrill from the Secretary of Agriculture to the Secretary of the Army and the Lake Lanier Property from the Secretary of the Army to the Secretary of Agriculture, as well as publication of the maps and legal description in the Federal Register. This notice provides the required maps and legal description.

ADDRESSES: Documents are on file at locations:

1. U.S. Army Engineer District, Savannah, 100 East Oglethorpe Avenue, Savannah, Georgia 31401-3064.

2. Office of the Southern Region, USDA, 1720 Peachtree Street NW., Room 792, Atlanta, Georgia 30309-2449.

FOR FURTHER INFORMATION CONTACT: Ms. Belinda Estabrook, Realty Specialist, 912-652-5667.

SUPPLEMENTARY INFORMATION: National Defense Authorization Act for Fiscal Year 2015 (Pub. L. 113-291, Section 2836), ordered transfers as follows:

(1) CAMP FRANK D. MERRILL.—Not later than September 30, 2015, the Secretary of Agriculture shall transfer to the administrative jurisdiction of the Secretary of the Army for required Army force protection measures certain Federal land administered as part of the Chattahoochee National Forest, but permitted to the Secretary of the Army for Camp Frank D. Merrill in Dahlonega, Georgia, consisting of approximately 282 acres identified in the permit numbers 0018-01.

(2) LAKE LANIER PROPERTY.—In exchange for the land transferred under paragraph (1), the Secretary of the Army (acting through the Chief of Engineers) shall transfer to the administrative jurisdiction of the Secretary of Agriculture certain Federal land administered by the Army Corps of Engineers and consisting of approximately 10 acres adjacent to Lake Lanier at 372 Dunlap Landing Road, Gainesville, Georgia.

The legal descriptions and maps of the transferred parcels, Camp Merrill and Lake Lanier are provided below:

1. Camp Merrill

Being a part of USA Tracts G-274, G-380, G-641-L, G-641-L-II, G-678a, G-678b, G-1320Ah, G-1320Aj, and G-1634, and lying and being in Land Lots 310, 311, & 312 of the 6th District, 1st Section, and Land Lots 937, 938, 1007, 1008, 1009, 1010, & 1080 of the 11th District, 1st Section, Lumpkin County, Georgia, containing 282.21 acres more or less. Said tracts were acquired by the United States in the hereinafter listed Condemnation Actions:

• United States of America v. J. E. Collins. Tract G-274, consisting of 399.45 acres, At Law #38, entered on December 29, 1929 and recorded in Lumpkin County at Book Q1-61 on February 26, 1930.

• United States of America v. Craig R. Arnold. Tract G-380, consisting of 313.00 acres, At Law #144, entered on December 2, 1935 and recorded in Lumpkin County at Book S1-427 on March 16, 1936.

• United States of America v. Rowland Lumber Company. Tract G-641-L, consisting of 187.56 acres, At Law #59, entered on April 27, 1931 and recorded in Lumpkin County at Book Q1-430 on May 28, 1931.

• United States of America v. Rowland Lumber Company. Tract G-641-L-II, consisting of 12.44 acres, At Law #59, entered on April 27, 1931 and recorded in Lumpkin County at Book Q1-430 on May 28, 1931.

• United States of America v. J. H. Hawes. Tract G-678a, consisting of 78.94 acres, At Law #1255, entered on December 15, 1930 and recorded in Lumpkin County at Book Q1-299 on February 9, 1931.

• United States of America v. J. H. Hawes. Tract G-678b, consisting of 18.08 acres, At Law #1255, entered on December 15, 1930 and recorded in Lumpkin County at Book Q1-299 on February 9, 1931.

• United States of America v. Morse Brothers Lumber Company. Tract G-1320Ah, consisting of 169.16 acres, At Law #1106, entered on April 11, 1929 and recorded in Lumpkin County at Book Q1-170 on June 9, 1930.

• United States of America v. Morse Brothers Lumber Company. Tract G-1320Aj, consisting of 267.04 acres, At Law #1106, entered on April 11, 1929 and recorded in Lumpkin County at Book Q1-170 on June 9, 1930.

• United States of America v. William Black. Tract G-1634, consisting of 188.40 acres, At Law #478, entered on October 21, 1952 and recorded in Lumpkin County at Book C2-305 on December 30, 1952.

Depicted as USA Tract C-2368 on a plat titled “SURVEY FOR: U.S. Department of Defense U.S. Army Camp Merrill” dated July 13, 2015 by Georgia Licensed Surveyors Mark E. Chastain and Jason D. Watkins, and recorded in Plat Book ___ Page ___, of the Lumpkin County Superior Court public records, which plat is attached hereto and made part hereof, more particularly described as follows:

Commencing at Corner 2 of USA Tract G-641 L-I, a 1¼″ galvanized pipe, being also the SE corner of land lot 1007, 11th District, 1st Section Lumpkin County, Georgia; thence N. 05°10′13″ W. 1,506.72 feet to Corner 1 of USA Tract C-2368, a 2⅜ inch aluminum post with 3¼ inch USFS cap, being a point interior to USA Tract G-641-L and Land Lot 938, and the Point of Beginning; thence S. 15°08′01″ W. 920.63 feet to Corner 2, a 2⅜ inch aluminum post with 3¼ inch USFS cap in Land Lot 1007; thence S. 61°58′52″ W. 193.61 feet to Corner 3, a 2⅜ inch aluminum post with 3¼ inch USFS cap; thence S. 52°49′47″ W. 1,082.21 feet to Corner 4, a 2⅜ inch aluminum post with 3¼ inch USFS cap in Land Lot 1009; thence N. 74°08′17″ W. 1,074.48 feet to Corner 5, a point in Hightower Church Road, and interior to Land Lot 1008, witnessed by a 2⅜ inch aluminum post with 3¼ inch USFS cap which bears S. 74°08′17″ E. 24.99 feet; thence along and with the meanders of the center of Hightower Church Road the following 14 calls, as shown on the attached plat: S. 32°27′28″ W. 51.69 feet to a point; thence S. 34°30′28″ W. 67.86 feet to a point; thence S. 33°48′29″ W. 66.47 feet to a point; thence S. 32°14′01″ W. 63.81 feet to a point; thence S. 27°59′39″ W. 61.95 feet to a point; thence S. 21°47′03″ W. 63.21 feet to a point; thence S. 15°12′00″ W. 66.96 feet to a point; thence S. 12°01′22″ W. 70.88 feet to a point; thence S. 10°45′50″ W. 72.00 feet to a point; thence S. 10°13′53″ W. 65.57 feet to a point; thence S. 10°32′03″ W. 64.67 feet to a point; thence S. 11°58′44″ W. 63.85 feet to a point; thence S. 12°42′26″ W. 43.48 feet to a point; thence S. 13°58′11″ W. 8.67 feet to Corner 6, a point in Land Lot 310 and the center of Hightower Church Road, witnessed by a 2⅜ inch aluminum post with 3¼ inch USFS cap which bears S 78°58′43″ W. 26.31 feet; thence leaving said Hightower Church Road, S 78°58'43″ E. 208.95 feet to Corner 7, a 2⅜ inch aluminum post with 3¼ inch USFS cap in Land Lot 1009; thence S. 14°09′32″ E. 804.72 feet to Corner 8, a 2⅜ inch aluminum post with 3¼ inch USFS cap in Land Lot 1080; thence S 69°15′21″ W. 455.17 feet to Corner 9, a 2⅜ inch aluminum post with 3¼ inch USFS cap in Land Lot 310; thence S 62°47′26″ W. 828.38 feet to Corner 10, a 2⅜ inch aluminum post with 3¼ inch USFS cap; thence N. 14°08′21″ W. 5,367.35 feet to Corner 11, a 2⅜ inch aluminum post with 3¼ inch USFS cap in Land Lot 312; thence N. 75°52′33″ E. 1,634.85 feet to Corner 12, a 2⅜ inch aluminum post with 3¼ inch USFS cap; thence S. 14°07′40″ E. 698.63 feet to Corner 13, a 2⅜ inch aluminum post with 3¼ inch USFS cap; thence S 29°40′28″ E. 1,806.27 feet to Corner 14, a 2⅜ inch aluminum post with 3¼ inch USFS cap in Land Lot 937; thence N. 67°13′37″ E. 27.86 feet to Corner 15, a nail and washer set in the center of Coopers Gap Road; thence along and with the meanders of the center of Coopers Gap Road the following 28 calls, as shown on the attached plat: N. 19°57′36″ E 51.01 feet to a point; thence N. 39°03′30″ E. 27.54 feet to a point; thence N. 24°43′35″ E 39.60 feet to a point; thence N. 04°00′08″ E. 51.23 feet to a point; thence N. 02°16′55″ E 63.59 feet to a point; thence N. 02°18′19″ E. 67.12 feet to a point; thence N. 05°26′56″ E 56.45 feet to a point; thence N. 17°50′40″ E. 46.12 feet to a point; thence N. 46°03′49″ E 35.38 feet to a point; thence N. 84°08′40″ E. 30.28 feet to a point; thence S. 61°29′42″ E 27.02 feet to a point; thence S. 38°55′06″ E. 49.53 feet to a point; thence S. 47°14′37″ E 64.30 feet to a point; thence S. 50°31′54″ E. 30.94 feet to a point; thence S. 66°57′34″ E 39.25 feet to a point; thence N. 89°49′03″ E. 29.67 feet to a point; thence N. 53°38′19″ E 34.60 feet to a point; thence N. 26°27′55″ E. 38.55 feet to a point; thence N. 12°21′38″ E 34.43 feet to a point; thence N. 00°26′18″ E. 22.52 feet to a point; thence N. 04°56′23″ W. 45.65 feet to a point; thence N. 07°11′01″ W. 81.94 feet to a point; thence N. 06°18′04″ W. 79.77 feet to a point; thence N. 06°02′44″ W. 74.49 feet to a point; thence N. 06°10′43″ W. 22.92 feet to a point; thence N. 05°12′12″ W. 72.09 feet to a point; thence N. 04°48′48″ W. 96.88 feet to a point; thence N. 03°22′36″ W. 23.48 feet to a Corner 16, a point in the center of Coopers Gap Road; witnessed by a 2⅜ inch aluminum post with 3¼ inch USFS cap which bears S. 89°15′22″ E. 21.00 feet; thence leaving said Coopers Gap Road S. 89°15′22″ E. 993.53 feet to Corner 17, a 2⅜ inch aluminum post with 3¼ inch USFS cap in Land Lot 938; thence S. 04°28′28″ E. 1021.46 feet to the Point of Beginning; containing 282.21 acres, more or less; less and except 0.95 acres shown as “Mount Zion #1” and 0.26 acres for a cemetery as shown on said plat incorporated herewith; and any easements for existing or established public roads, highways, and utilities, if any.

A Map of Camp Merrill is at Figure 1.

2. Lake Lanier Parcel

Being formerly a part of USACE Tract N-1410, which said tract was acquired by the United States of America by means of condemnation proceedings entitled United States of America vs. 1,114.46 acres of land, more or less, situated in Dawson and Hall Counties, State of Georgia, and Fred O. Rowe, et al., Civil Action No. 701, United States District Court for the Northern District of Georgia, Gainesville Division, Buford Dam and Reservoir Project.

All that tract or parcel of land lying and being in Land Lots 122 & 123 of the 10th District, City of Gainesville, Hall County, depicted as USA Tract C-2367 on a plat titled “SURVEY FOR: United States Forest Service” dated July 30, 2015 by Georgia Licensed Surveyor Mark E. Chastain, of Chastain & Associates, P.C. (Job #215F42), and recorded in Plat Book ___ Page ___, of the Hall County Superior Court public records, which plat is attached hereto and made part hereof, more particularly described as follows: Beginning at a U.S. Army Corps of Engineers monument found, designated as “123-C6”, said monument having state plane coordinates (NAD83, Georgia West Zone) of Northing 1582107.49, Easting 2392494.60; thence North 09 Degrees 50 Minutes 54 Seconds West a distance of 264.98 feet to a U.S. Army Corps of Engineers monument found; thence North 09 Degrees 50 Minutes 54 Seconds West a distance of 263.72 feet to a U.S. Army Corps of Engineers monument set, designated “123-D1”; thence North 52 Degrees 17 Minutes 48 Seconds East a distance of 571.14 feet to a U.S. Army Corps of Engineers monument set, designated as “123-D2”; passing a U.S. Army Corps of Engineers monument set, designated “123-D1-A, at a distance of 285.61 feet from the origin of said course; thence South 54 Degrees 58 Minutes 07 Seconds East a distance of 385.00 feet to a U.S. Army Corps of Engineers monument set, designated “123-D3”, passing a U.S. Army Corps of Engineers monument set, designated “123-D2-A”, at a distance of 185.63 feet from the origin of said course; thence South 44 Degrees 28 Minutes 21 Seconds West a distance of 100.77 feet to a U.S. Army Corps of Engineers monument set, designated “123-D4”; thence South 05 Degrees 49 Minutes 03 Seconds West a distance of 351.98 feet to a U.S. Army Corps of Engineers monument set, designated “123-D5”; thence with a curve turning to the right with an arc length of 149.69', with a radius of 233.85', with a chord bearing of South 48 Degrees 05 Minutes 12 Seconds West, with a chord length of 147.15', to a point; thence South 66 Degrees 25 Minutes 26 Seconds West a distance of 239.26 feet to a point; thence with a curve turning to the right with an arc length of 171.55′, with a radius of 569.78′, with a chord bearing of South 75 Degrees 02 Minutes 57 Seconds West, with a chord length of 170.90′, to a U.S. Army Corps of Engineers monument set, designated “123-D6”; thence North 50 Degrees 50 Minutes 59 Seconds West a distance of 14.08 feet to a U.S. Army Corps of Engineers monument found, designated “123-C5”; thence North 88 Degrees 11 Minutes 43 Seconds West a distance of 65.64 feet to a U.S. Army Corps of Engineers monument found, designated “123-C6” and the point of beginning; containing 10.00 acres, more or less.

Together with a single point of access from the subject tract to and across an existing 50-year public road easement, between the Department of the Army, acting by and through the U.S. Army Corps of Engineers (USACE), and the City of Gainesville, dated April 26, 1994, to that adjoining public right-of-way known as Dunlap Landing Road, and in accordance with USACE Contract No. DACW01-2-95-0092, including any extensions or renewals of said aforementioned public road easement.

This statement is being made for the purpose of assuring a legal means of ingress and egress to and from Dunlap Landing Road in accordance with the Transfer of Administrative Jurisdiction of subject tract from the Department of Army to the Department of Agriculture, pursuant to Public Law 113-291, National Defense Authorization Act for Fiscal Year 2015 (H.R. 3979) and those authorities under 16 U.S.C 505a-505b. This transfer is subject to existing easements for public roads, highways, public utilities, pipelines as well as any and all oil, gas, and mineral rights outstanding in third parties.

A Map of Lake Lanier Parcel is at Figure 2.

Dated: August 6, 2015.
Ralph J. Werthmann,
Chief, Real Estate Division, Savannah District.

[FR Doc. 2015-20590 Filed 8-19-15; 8:45 am]

BILLING CODE 3720-58-P